DEPARTMENT OF COMMERCE

International Trade Administration

[A-428-816]

Certain Cut-To-Length Carbon Steel Plate From Germany; Amended Final Results of Antidumping Duty Administrative Review in Accordance with Court Decision

AGENCY: Import Administration, International Trade Administration, U.S. Department of Commerce.

ACTION: Notice of Amended Final Results of Antidumping Duty Administrative Review in accordance with Court Decision.

SUMMARY: On August 25, 2000, the United States Court of Appeals for the Federal Circuit (“CAFC”), reversed and remanded a decision by the Court of International Trade (“CIT”) which arose from the Department of Commerce (“Commerce”) determination on the administrative review of certain cut-to-length carbon steel plate from Germany. See U.S. Steel Group v. United States, 15 F. Supp. 2d. 892, 898 (CIT 1998) (“US Steel Group”). As there is now a final and conclusive court decision in this segment, we are amending the final results of reviews in this matter and will instruct the U.S. Customs Service to liquidate entries subject to these amended final results.

EFFECTIVE DATE: August 21, 2001.

FOR FURTHER INFORMATION CONTACT: Robert Bolling or Alex Villanueva, Antidumping/Countervailing Duty Enforcement, Import Administration, International Trade Administration, U.S. Department of Commerce, 14th Street and Constitution Avenue, NW., Washington DC 20230; telephone (202) 482-3434 and (202) 482-6412, respectively.

SUPPLEMENTARY INFORMATION:

Background

On April 15, 1997, the Department published its final results of the administrative review of certain cut-to-length carbon steel plate from Germany for one German exporter, AG DER Dillinger Huttenwerke (“Dillinger”). See Certain Cut-To-Length Carbon Steel Plate from Germany; Final Results of Antidumping Administrative Review, 62 FR 18395 (April 15, 1997) (“Final Results”). In these final results, the Department included movement expenses in “total expenses” used to calculate CEP profit ratios. See Final Results.

On July 7, 1998, the CIT sustained the domestic producer's challenge that movement expenses should not be included in total expenses. On July 7, 1998, the CIT issued an order, instructing Commerce to exclude movement expenses in computing “total expenses.” See US Steel Group 15 F. Supp. 2d. at 892. On September 8, 1998, Commerce submitted its recalculated results consistent with the remand order to the CIT. In addition, in response to the CIT's remand order, we recalculated commissions and declined to retain in the COMMISU variable any portion of the intra-company commissions (i.e., excluded from COMMISU the amount representing payment from Dillinger to Daval).

On November 6, 1998 the CIT affirmed the remand. See U.S. Steel Group v. United States, No. 97-05-00866, 1998 WL 782011 (CIT) (November 6, 1998).

On August 25, 2000, however, the CAFC overturned the CIT's decision and upheld the initial determination of the Department, which stated that movement expenses should be included in “total expenses.” See U.S. Steel Group v. United States, Court No. 99-1342 (CAFC August 25, 2000). On February 22, 2001, the CIT issued an order directing Commerce to recalculate Dillinger's CEP profit ratios to include movement expenses as part of total expenses. At the same time, the CIT dismissed the case.

We are therefore amending our final results of review for the period August 1, 1994 through July 31, 1995. We have recalculated the margin for Dillinger. The revised weighted average margin is as follows:

Manufacturer/exporter | Margin [percent]
Dillinger | 0.16 (De minimis)

The Department shall determine, and the U.S. Customs Service (“Customs”) shall assess, antidumping duties on all appropriate entries. In accordance with 19 CFR 351.212(b), we have calculated importer-specific assessment rates. With respect to the constructed export price sales, we divided the total dumping margins for the reviewed sales by the total entered value of those reviewed sales for each importer. We will direct Customs to assess any resulting non-de minimis percentage margins against the entered Customs values for the subject merchandise on each of that importer's entries during the review period.

The Department's decision applies to all entries of merchandise subject to this review, or withdrawn from warehouse, for consumption on or after August 1, 1994 and before July 31, 1995. The Department will order the suspension of liquidation ended for all such entries and will instruct Customs to release any cash deposits or bonds.

For assessment purposes, we have calculated importer-specific duty assessment rates for each class or kind of merchandise based on the ratio of the total amount of antidumping duties calculated for the examined sales to the total quantity of sales examined. The Department will instruct Customs to liquidate without regard to antidumping duty rates. The above rate will not affect Dillinger's cash deposit rate currently in effect, which continues to be based on the margins found to exist in the most recently completed review.

This notice is published in accordance with section 751(a)(1) of the Tariff Act (19 U.S.C. 1675(a)(1)) and 19 CFR 351.221.

Dated: August 14, 2001.
Bernard T. Carreau,
Acting Assistant Secretary for Import Administration.

[FR Doc. 01-21181 Filed 8-21-01; 8:45 am]

BILLING CODE 3510-DS-P